ENVIRONMENTAL PROTECTION AGENCY

[EPA-HQ-OPP-2006-0936; FRL-8133-4]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before July 27, 2007.

ADDRESSES: Submit your comments, identified by docket identification (ID) number and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 5F6904 | EPA-HQ-OPP-2005-0157
PP 6E7144 | EPA-HQ-OPP-2007-0020
PP 6F7134 | EPA-HQ-OPP-2007-0178
PP 6F7145 | EPA-HQ-OPP-2007-0193
PP 6E7132 PP 6E7133 | EPA-HQ-OPP-2007-0300 EPA-HQ-OPP-2007-0300
PP 6E7153 | EPA-HQ-OPP-2007-0301
PP 6E7167 | EPA-HQ-OPP-2007-0302
PP 7E7187 | EPA-HQ-OPP-2007-0303
PP 6E7151 | EPA-HQ-OPP-2007-0308
PP 6E7150 | EPA-HQ-OPP-2007-0309
PP 6E7097 | EPA-HQ-OPP-2007-0311
PP 7E7183 | EPA-HQ-OPP-2007-0312
PP 6E7081 | EPA-HQ-OPP-2007-0338
PP 7E7172 | EPA-HQ-OPP-2007-0339
PP 7F7190 | EPA-HQ-OPP-2007-0366
PP 7F7169 | EPA-HQ-OPP-2007-0377
PP 7E7204 | EPA-HQ-OPP-2007-0398
PP 6F7161 | EPA-HQ-OPP-2007-0029

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in section 408(d)(2) of FFDCA; however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

New Tolerances

1. PP 5F6904. (Docket ID number EPA-HQ-OPP-2005-0157). ABERCO, Inc., 9430 Lanham-Severn Road, Seabrook, MD 20706, proposes to establish a tolerance for residues of the fungicide propylene oxide in or on food commodities: Grape, raisin at 1.0 parts per million (ppm); fig at 3.0 ppm and plum, prune, dried at 2.0 ppm. ABERCO has submitted an enforcement method for determination of residues of propylene oxide, propylene chlorohydrin, and propylene bromohydrin in nutmeats, cocoa, and dried spices. Contact: Tony Kish, telephone number: (703) 308-9943; e-mail address: kish.tony@epa.gov.

2. PP 6E7144. (Docket ID number EPA-HQ-OPP-2007-0020). Tamico, Inc., 1950 Lake Park Dr., Smyrna, GA 30080, proposes to establish import tolerances for residues of the fungicide thiram in or on food commodities: Banana, whole at 0.5 ppm and banana, pulp at 0.3 ppm. Banana samples were analyzed according to analytical method meth-100, revision #4 , “Determination of Thiram in Raw Agricultural Commodities, Processed Commodities and Other Plant Material”. Detection and quantitation for thiram (as CS2) were conducted using gas chromatography (GC) employing sulfur-specific flame photometric detection (FPD). The limit of quantitation (LOQ) was 0.05 ppm. Contact: Bryant Crowe, telephone number: (703) 305-0025; e-mail address: crowe.bryant@epa.gov.

3. PP 6F7134. (Docket ID number EPA-HQ-OPP-2007-0178). Bayer CropScience, P.O. Box 12014, 2 T.W. Alexander Dr., Research Triangle Park, NC 27709, proposes to establish a tolerance for residues of the fungicide prothioconazole and its desthio metabolite in or on food commodities: Beet, sugar, roots at 0.25 ppm and beet, sugar, tops at 9.0 ppm. The analytical method for determining residues of concern in plant extract residues of prothioconazole and JAU6476-desthio and converts the prothioconazole to JAU6376-desthio and JAU6476-sulfonic acid. Following addition of internal standards the sample extracts are analyzed by liquid chromatography/tandem mass spectrometry (LC/MS/MS). Radiovalidation and independent laboratory validation have shown that the method adequately quantifies prothioconazole residues in treated commodities. The analytical method for analysis of large animal tissues includes extraction of the residues of concern, followed by addition of an internal standard to the extract. The extract is then hydrolyzed to release conjugates, partitioned and analyzed by LC/MS/MS as prothioconazole, JAU6476-desthio and JAU6476-4-hydroxy. The method for analysis of milk eliminated the initial extraction step in the tissue method. Contact: Bryant Crowe, telephone number: (703) 305-0025; e-mail address: crowe.bryant@epa.gov.

4. PP 6F7145. (Docket ID number EPA-HQ-OPP-2007-0193). FMC Corporation, 1735 Market St., Philadelphia, PA 19203, proposes to establish a tolerance for residues of the herbicide carfentrazone-ethyl, (ethyl--2-dichloro-5-[4-(difluoromethyl)-4,5-dihydro-3-methyl-5-oxo-1H-1,2,4-triazol-1-yl]-4-fluorobenzene-propanoate) and the metabolite carfentrazone-ethyl, chloropropionic acid (, 2-dichloro-5-[4-(difluoromethyl)-4,5-dihydro-3-methyl-5-oxo-1H-1,2,4-triazol-1-yl]-4-fluorobenzenepropanoic acid) in or on food commodities: Grain, cereal, group 15 (except rice grain and sorghum grain at 0.10 ppm; rice, grain at 1.3 ppm; sorghum, grain at 0.25 ppm; grain, cereal, stover at 0.80 ppm; grain, cereal, straw at 3.0 ppm; soybean, seed at 0.10 ppm; barley, flour at 0.80 ppm; barley, bran at 0.80 ppm; millet, flour at 0.80 ppm; oat, flour at 0.80 ppm; rice, hulls at 3.5 ppm; rye, flour at 0.80 ppm; rye, bran at 0.80 ppm; wheat, bran at 0.80 ppm; wheat, flour at 0.80 ppm; wheat, middlings at 0.80 ppm; wheat, shorts at 0.80 ppm; wheat, germ at 0.80 ppm; aspirated grain fractions at 1.8 ppm; hog, meat at 0.10 ppm; hog, meat byproducts at 0.10 ppm; hog, fat at 0.10 ppm; poultry, meat byproducts at 0.10 ppm; and sugarcane at 0.15 ppm. The analytical method involves separate analyses for parent and its metabolites. The parent is analyzed by GC/electron capture detection (ECD). The metabolites are derivatized with boron trifluoride and acetic anhydride for analysis by GC/mass spectrometry detection (MSD) using selective ion monitoring. Contact: Joanne I. Miller, telephone number: (703) 305-6224; e-mail address: miller.joanne@epa.gov.

5. PP 6E7132 and 6E7133. (Docket ID number EPA-HQ-OPP-2007-0300). Interregional Research Project Number 4 (IR-4), 500 College Road East, Suite 201 W, Princeton, NJ 08540-6635, proposes to establish a tolerance for residues of the insecticide Z-cypermethrin, (S-cyano(3-phenoxyphenyl) methyl (±))(cis-trans 3-(2,2-dichloroethenyl)-2,2-dimethylcyclopropanecarboxylate and its inactive R-isomers in or on food commodities: PP 6E7132 - Rice, wild, grain at 1.50 ppm; okra at 0.20 ppm; safflower, seed at 0.20 ppm; and PP 6E7133 - Fruit, citrus, group 10 at 0.25 ppm; citrus, dried, pulp at 0.50 ppm; and citrus, oil at 0.90 ppm. There is a practical analytical method for detecting and measuring levels of cypermethrin in or on food with a limit of detection (LOD) that allows monitoring of food with residues at or above the levels set in these tolerances (GC/ECD). Contact: Sidney Jackson, telephone number: (703) 305-7610; e-mail address: jackson.sidney@epa.gov.

6. PP 6E7153. (Docket ID number EPA-HQ-OPP-2007-0301). Interregional Research Project Number 4 (IR-4), 500 College Road East, Suite 201 W, Princeton, NJ 08540-6635, proposes to establish a tolerance for residues of the herbicide chlorimuron-ethyl [ethyl 2-[[[[(4-chloro-6-methoxypyrimidin-2yl) amino]carbonyl] amino]sulfonyl] benzoate] in or on food commodities: Cranberry; bearberry; bilberry; lowbush berry; cloudberry; lingonberry; muntries; and partridgeberry at 0.02 ppm. The nature of residues of chlorimuron-ethyl is adequately understood and an acceptable analytical method is available for enforcement purposes. The LOQ allows monitoring of crops with chlorimuron-ethyl residues at or above the levels proposed in this tolerance. Contact: Sidney Jackson, telephone number: (703) 305-7610; e-mail address: jackson.sidney@epa.gov.

7. PP 6E7167. (Docket ID number EPA-HQ-OPP-2007-0302. Interregional Research Project Number 4 (IR-4), 500 College Road East, Suite 201 W, Princeton, NJ 08540-6635, proposes to establish a tolerance for residues of the miticide bifenazate, (1-methylethyl 2-(4-methoxy[1,1'-biphenyl]-3-yl)hydrazinecarboxylate) and diazinecarboxylic acid, 2-(4-methoxy-[1,1'-biphenyl]-3-yl), 1-methylethyl ester (expressed as bifenazate) in or on food commodities: Papaya, star apple, black sapote, mango, sapodilla, canistel, and mamey sapote at 6.0 ppm; lychee, longan, Spanish lime, rambutan, and pulasan at 4.0 ppm; feijoa, guava, jaboticaba, wax jambu, starfruit, passionfruit, and acerola at 0.9 ppm; caneberry subgroup 13A at 6.0 ppm; wild raspberry at 6.0 ppm; edible podded legume vegetable, subgroup 6A at 4.0 ppm; succulent shelled pea and bean, subgroup 6B at 0.3 ppm; and succulent shelled soybean at 0.3 ppm. As D3598, a significant metabolite, was found to interconvert readily to/from bifenazate, the analytical method is designed to convert all residues of D3598 to the parent compound (bifenazate) for analysis. The method utilizes reversed phase high performance liquid chromatography (HPLC) to separate the bifenazate from matrix derived interferences, and oxidative coulometric electrochemical detection for the identification and quantification of this analyte. Using this method, the LOQ was 0.05 ppm. The LOD for this method, which varies with matrix, is 0.005 ppm. The analytical method for bifenazate and its major metabolite D3598 in animal samples used the same principles as the plant method with minor modifications. However, in animal samples, a separate aliquot of the extract was used to determine residues of A1530 and its sulfate (combined) in milk and meat samples (these metabolites appeared to be significant in goat metabolism studies). The extract was subjected to acid hydrolysis to convert the sulfate conjugate to A1530 before it was quantified by HPLC using fluorescence or oxidative coulometric electrochemical detectors (OCED). Contact: Sidney Jackson, telephone number: (703) 305-7610; e-mail address: jackson.sidney@epa.gov.

8. PP 7E7187. (Docket ID number EPA-HQ-OPP-2007-0303). Interregional Research Project Number 4 (IR-4), 500 College Road East, Suite 201 W, Princeton, NJ 08540-6635, proposes to establish a tolerance for residues of the fungicide fenhexamid, (N-2,3-dichloro-4-hydroxyphenyl)-1-methyl cyclohexene carboxamide) in or on food commodity asparagus at 0.02 ppm. An adequate method for purposes of enforcement of the proposed fenhexamid tolerance in plant commodities is available. Contact: Sidney Jackson, telephone number: (703) 305-7610; e-mail address: jackson.sidney@epa.gov.

9. PP 6E7151. (Docket ID number EPA-HQ-OPP-2007-0308). Interregional Research Project Number 4 (IR-4), 500 College Road East, Suite 201 W, Princeton, NJ 08540-6635, proposes to establish a tolerance for residues of the herbicide, flumioxazin, (2-[7-fluoro-3,4-dihydro-3-oxo-4-(2-propynyl)-2H-1,4-benzoxazin-6-yl]-4,5,6,7-tetrahydro-1H-isoindole-1,3(2H)-dione) in or on food commodities: Bushberry, subgroup 13B at 0.02 ppm; asparagus, aronia berry, buffalo currant, Chilean guava, European barberry, highbush cranberry, honeysuckle, jostaberry, Juneberry, lingonberry, Native currant, salal, sea buckthorn, and okra at 0.02 ppm; melon, subgroup 9A at 0.02 ppm; dry beans at 0.10 ppm; vegetable, fruiting, crop group 8 at 0.02 ppm; and nut, tree, crop group 14 at 0.02 ppm. Practical analytical methods for detecting and measuring levels of flumioxazin have been developed and validated in/on all appropriate agricultural commodities and respective processing fractions. The LOQ of flumioxazin in the methods is 0.02 ppm which will allow monitoring of food with residues at the levels proposed for the tolerances. Contact: Sidney Jackson, telephone number: (703) 305-7610; e-mail address: jackson.sidney@epa.gov.

10. PP 6E7150. (Docket ID number EPA-HQ-OPP-2007-0309). Interregional Research Project Number 4 (IR-4), 500 College Road East, Suite 201 W, Princeton, NJ 08540-6635, proposes to establish a tolerance for residues of the insecticide etoxazole, (2-(2,6-difluorophenyl)-4-[4-(1,1-dimethylethyl)-2-ethoxyphenyl]-4,5-dihydrooxazole) in or on food commodities: hop, dried cones at 7.0 ppm; melon, subgroup 9A at 0.15 ppm; and cherry at 0.70 ppm. Practical analytical methods for detecting and measuring levels of etoxazole have been developed and validated in/on all appropriate agricultural commodities and respective processing fractions. The LOQ of etoxazole in the methods is 0.02 ppm which will allow monitoring of food with residues at the levels proposed for the tolerances. Contact: Sidney Jackson, telephone number: (703) 305-7610; e-mail address: jackson.sidney@epa.gov.

11. PP 6E7097. (Docket ID number EPA-HQ-OPP-2007-0311). Interregional Research Project Number 4 (IR-4), 500 College Road East, Suite 201 W, Princeton, NJ 08540-6635, proposes to establish a tolerance for residues of the fungicide tebuconazole, (alpha-[2-(4-chlorophenyl)-ethyl]-alpha-(1,1-dimethylethyl)-1H-1,2,4-triazole-1-ethanol) in or on food commodities: Vegetable, bulb, group 3 at 1.3 ppm; Brassica, leafy greens, subgroup 5B at 2.5 ppm; beet, garden, roots at 0.7 ppm; and beet, garden, leaves at 5.0 ppm. An enforcement method for plant commodities has been validated on various commodities. It has undergone successful EPA validation and has been submitted for inclusion in the Pesticide Analytical Manual, Volume II (PAM II). The animal method has also been approved as an adequate enforcement method. Contact: Sidney Jackson, telephone number: (703) 305-7610; e-mail address: jackson.sidney@epa.gov.

12. PP 7E7183. (Docket ID number EPA-HQ-OPP-2007-0312). Interregional Research Project Number 4 (IR-4), 500 College Road East, Suite 201 W, Princeton, NJ 08540-6635, proposes to establish a tolerance for residues of the fungicide triflumizole, (1-(1-((4-chloro-2-(trifluoromethyl) phenyl)imino)-2-propoxyethyl)-1H-imidazole), and its metabolites containing the 4-chloro-2-trifluoromethylaniline moiety, calculated as the parent compound in or on food commodity leafy Brassica (subgroup 5B) at 20.0 ppm. The analytical method is suitable for analyzing crops for residues of triflumizole and its aniline containing metabolites at the proposed tolerance levels. The analytical method has been independently validated. Residue levels of triflumizole are converted to FA-1-1 by acidic and alkaline reflux, followed by distillation. Residues are then extracted and subjected to solid phase extraction (SPE) purification. Detection and quantitation are conducted by a GC equipped with nitrogen phosphorus detector, electron capture detector or mass spectrometry detection. The LOQ of the method has been determined at 0.05 ppm for the combined residues of triflumizole and FA-1-1 in mustard greens. The enforcement methodology has been submitted to the Food and Drug Administration (FDA) for publication in the PAM II. Contact: Sidney Jackson, telephone number: (703) 305-7610; e-mail address: jackson.sidney@epa.gov.

13. PP 6E7081. (Docket ID number EPA-HQ-OPP-2007-0338). Interregional Research Project Number 4 (IR-4), 500 College Road East, Suite 201 W, Princeton, NJ 08540-6635, proposes to establish a tolerance for combined residues of the insecticide flonicamid [N-(cyanomethyl)-4-(trifluoromethyl)-3-pyridinecarboxamide] and its metabolites TFNA [4-trifluoromethylnicotinic acid], TFNA-AM [4-trifluoromethylnicotinamide], TFNG [N-(4-trifluoromethylnicotinoyl)glycine] in or on food commodities: Vegetables, root, except sugarbeet, (subgroup 1B) at 0.45 ppm; radish, tops at 16.0 ppm; vegetables, tuberous and corm, (subgroup 1C) at 0.2 ppm; Brassica, leafy greens (subgroup 5B) at 16.0 ppm; turnip greens at 16.0 ppm; hop at 7.0 ppm; and okra at 0.4 ppm. Analytical methodology has been developed to determine the residues of flonicamid and its three major metabolites (TFNA, TFNG, and TFNA-AM) in various crops. The residue analytical method for the majority of crops includes an initial extraction with acetonitrile/deionized water (ACN/DI), followed by a liquid/liquid partition with ethyl acetate. The residue method for wheat straw is similar, except that a C18 solid phase extraction (SPE) is added prior to the liquid/liquid partition. The final sample solution is quantitated using LC equipped with a reverse phase column and a triple quadruple mass spectrometer (MS/MS). Contact: Sidney Jackson, telephone number: (703) 305-7610; jackson.sidney@epa.gov.

14. PP 7E7172. (Docket ID number EPA-HQ-OPP-2007-0339). Interregional Research Project Number 4 (IR-4), 500 College Road East, Suite 201 W, Princeton, NJ 08540-6635, proposes to establish a tolerance for residues of the fungicide fluopicolide, (2,6-dichloro-N-[[3-chloro-5-(trifluoromethyl)-2-pyridinyl]methyl] benzamide) in or on food commodities: Vegetable, root and tuber, group 1 at 0.2 ppm; vegetable, leaves of root and tuber, group 2 at 12.0 ppm; vegetable, bulb, group 3 at 5.0 ppm; chive, fresh leaves at 5.0 ppm; chive, Chinese, fresh leaves at 5.0 ppm; daylily, bulb at 5.0 ppm; elegans hosta at 5.0 ppm; fritillaria, bulb at 5.0 ppm; fritillaria, leaves at 5.0 ppm; garlic, serpent, bulb at 5.0 ppm; kurrat at 5.0 ppm; lady's leek at 5.0 ppm; leek, wild at 5.0 ppm; lily, bulb at 5.0 ppm; onion, Beltsville bunching at 5.0 ppm; onion, Chinese, bulb at 5.0 ppm; onion, fresh at 5.0 ppm; onion, macrostem at 5.0 ppm; onion, pearl at 5.0 ppm; onion, potato, bulb at 5.0 ppm; onion, tree, tops at 5.0 ppm; shallot, bulb at 5.0 ppm; shallot, fresh leaves at 5.0 ppm; and Brassica, head and stem, subgroup 5A at 5.0 ppm. A practical analytical method utilizing LC and MSD is available and has been validated for detecting and measuring levels of fluopicolide in and on crops. The validated LOQ is 0.01 ppm. Contact: Sidney Jackson, telephone number: (703) 305-7610; e-mail address: jackson.sidney@epa.gov.

15. PP 7F7190. (Docket ID number EPA-HQ-OPP-2007-0366). Nichino America, Inc., 4550 New Linden Hill Road, Suite 501, Wilmington, DE 19808, proposes to establish a tolerance for residues of the herbicide, pyraflufen-ethyl (ethyl 2-chloro-5-(4-chloro-5-difluoromethoxy-(1-methyl-1H-pyrazol-3-yl)-4-fluorophenoxyacetate) and its acid metabolite, E-1 (2-chloro-5-(4-chloro-5-difluoromethoxy-(1-methyl-1H-pyrazol-3-yl)-4-fluorophenoxyacetic acid), expressed in terms of the parent in or on food commodities: Soybeans, forage at 0.05 ppm; soybeans, hay at 0.1 ppm; grass, forage, crop group 17 at 1.0 ppm; and grass, hay, crop group 17 at 1.2 ppm. Aqueous organic solvent extraction, column clean up, and quantitation by GC is used to measure and evaluate the chemical residues. Contact: Joanne I. Miller, telephone number: (703) 305-6224; e-mail address: miller.joanne@epa.gov.

16. PP 7F7169. (Docket ID number EPA-HQ-OPP-2007-0377). BASF Corporation, P.O. Box 13528, Research Triangle Park, NC 27709, proposes to establish a tolerance for residues of the fungicide Boscalid (BAS 510F), [3-pyridinecarboxamide, 2-chloro-N-(4'-chloro(1,1'-biphenyl)-2-yl] in or on food commodities: Cotton, undelinted seed at 1.0 ppm and cotton, gin byproducts at 55.0 ppm. In plants, the parent residue is extracted using an aqueous organic solvent mixture followed by liquid/liquid partitioning and a column clean up. Quantitation is by GC using MS. In livestock, the residues are extracted with methanol. The extract is treated with enzymes in order to release the conjugated glucuronic acid metabolite. The residues are then isolated by liquid/liquid partition followed by column chromatography. The hydroxylated metabolite is acetylated followed by a column clean up. The parent and acetylated metabolite are quantitated by GC with ECD. Contact: Bryant Crowe, telephone number: (703) 305-0025; e-mail address: crowe.bryant@epa.gov.

17. PP 7E7204. (Docket ID number EPA-HQ-OPP-2007-0398). Interregional Research Project Number 4 (IR-4), 500 College Road East, Suite 201 W, Princeton, NJ 08540-6635, proposes to establish a tolerance for residues of the insecticide/miticide spirodiclofen,(3-(2,4-dichlorophenyl)-2-oxo-1-oxaspiro[4,5]dec-3-en-4-yl ester 2,2-dimethylbutanoate in or on food commodity hops, cones, dried at 30.0 ppm. Adequate analytical methodology using LC/MS/MS detection is available for enforcement purposes. Contact: Susan Stanton, telephone number: (703) 305-5218; e-mail address: stanton.susan@epa.gov.

Amendment to Existing Tolerances

1. PP 5F6904. (Docket ID number EPA-HQ-OPP-2005-0157). ABERCO, Inc., 9430 Lanham-Severn Road, Seabrook, MD 20706, proposes to amend the tolerances in 40 CFR 180.491 by deleting sections (a)(2) and (a)(4) for residues of the fungicide propylene oxide in or on the food commodities. These directions are described on the label and are no longer required in the tolerance expression. Contact: Tony Kish, telephone number: (703) 308-9943; e-mail address: kish.tony@epa.gov.

2. PP 6F7161. (Docket ID number EPA-HQ-OPP-2007-0029). Bayer CropScience, 2 T.W. Alexander Dr., Research Triangle Park, NC 27709, proposes to amend the tolerances in 40 CFR 180.473(a) to eliminate the reference to transgenic crops tolerant to glufosinate ammonium in section 180.473(a)(2) such that the crop tolerances listed under section 180.473(a) General support uses in all of the crops listed to include both conventional and transgenic crops and to delete sections 180.473 (a)(1) and 180.473 (a)(2). This notice clarifies the initial notice of filing published in the Federal Register of February 28, 2007 (72 FR 9000; FRL-8115-5). The tolerances for glufosinate-ammonium and its metabolites listed for the commodities under both subsections (1) and (2) are proposed to be placed in paragraph 180.473(a) General to read as follows: Tolerances are established for residues of glufosinate-ammonium (butanoic acid, 2-amino-4-(hydroxymethylphosphinyl)-monoammonium salt) and its metabolites expressed as butanoic acid, 2-amino-4-(hydroxymethylphosphinyl)-, monoammonium salt, 2-acetamido-4-methylphosphinico-butanoic acid and 3-methylphosphinico-propionic acid expressed as glufosinate free acid equivalents in or on the raw agricultural commodities: Almond, hulls at 0.50 ppm; apple at 0.05 ppm; aspirated grain fractions at 25.0 ppm; banana at 0.30 ppm; banana, pulp at 0.20 ppm; beet, sugar, molasses at 5.0 ppm; beet, sugar, roots at 0.9 ppm; beet, sugar, tops (leaves) at 1.5 ppm; bushberry subgroup 13B at 0.15 ppm; canola, meal at 1.1 ppm; canola, seed at 0.4 at ppm; cattle, fat at 0.40 ppm; cattle, meat at 0.15 ppm; cattle, meat byproducts at 6.0 ppm; corn, field forage at 4.0 ppm; corn, field, grain at 0.2 ppm; corn, field, stover at 6.0 ppm; cotton, gin byproducts at 15 ppm; cotton, undelinted seed at 4.0 ppm; egg at 0.15 ppm; goat, fat at 0.40 ppm; goat, meat at 0.15 ppm; goat, meat byproducts at 6.0 ppm; grape at 0.05 ppm; hog, fat at 0.40 ppm; hog, meat at 0 .15; hog, meat byproducts at 6.0 ppm; horse, fat at 0.40 ppm; horse, meat at 0.15 ppm; horse, meat byproducts at 6.0 ppm; Juneberry 0.10 ppm; lingonberry at 0.10 ppm; milk at 0.15 ppm; nut, tree, group 14 at 0.10 ppm; potato at 0.80 ppm; potato, chips at 1.60 ppm; potato granules and flakes 2.00 ppm; poultry, fat 0.15 ppm; poultry, meat at 0.15 ppm; poultry, meat byproducts 0.60 ppm; rice, grain at 1.0 ppm; rice, hull at 2.0 ppm; rice, straw at 2.0 ppm; salal at 0.10 ppm; sheep, fat at 0.40 ppm; sheep, meat at 0.15 ppm; sheep, meat byproducts at 6.0 ppm; soybean at 2.0 ppm and soybean, hulls at 5.0 ppm. An analytical method was developed to measure the glufosinate-ammonium and its metabolites in raw agricultural commodities by GC. Contact: Joanne I. Miller, telephone number: (703) 305-6224; e-mail address: miller.joanne@epa.gov.

3. PP 6E7151. (Docket ID number EPA-HQ-OPP-2007-0308). Interregional Research Project Number 4 (IR-4), 500 College Road East, Suite 201 W, Princeton, NJ 08540-6635, proposes to amend the tolerances in 40 CFR 180.568 for residues of the herbicide, flumioxazin, 2-[7-fluoro-3,4-dihydro-3-oxo-4-(2-propynyl)-2H-1,4-benzoxazin-6-yl]-4,5,6,7-tetrahydro-1H-isoindole-1,3(2H)-dione in or on the food commodity almond, nutmeats be deleted upon establishment of the crop group tolerance for nut, tree, Crop Group 14. Contact: Sidney Jackson, telephone number: (703) 305-7610; e-mail address: jackson.sidney@epa.gov.

List of Subjects

Environmental protection, Agricultural commodities, Feed additives, Food additives, Pesticides and pests, Reporting and recordkeeping requirements.

Dated: June 13, 2007.
Donald R. Stubbs,
Acting Director, Registration Division, Office of Pesticide Programs.

[FR Doc. E7-12036 Filed 6-26-07; 8:45 am]

BILLING CODE 6560-50-S